DEPARTMENT OF LABOR

Mine Safety and Health Administration

30 CFR Part 104

RIN 1219-AB73

Pattern of Violations

AGENCY: Mine Safety and Health Administration, Labor.

ACTION: Proposed rule; extension of comment period.

SUMMARY: The Mine Safety and Health Administration (MSHA) is extending the comment period on the proposed rule addressing Pattern of Violations (POV). This extension gives commenters additional time to review and comment on the proposed rule.

DATES: All comments must be received or postmarked by midnight Eastern Daylight Savings Time on April 18, 2011.

ADDRESSES: Submit comments by any of the following methods. Comments must be identified with “RIN 1219-AB73” in the subject line of the message.

• Federal e-Rulemaking Portal: http://www.regulations.gov. Follow the on-line instructions for submitting comments.

• Electronic mail: zzMSHA-comments@dol.gov.

• Facsimile: 202-693-9441.

• Regular Mail or Courier: MSHA, Office of Standards, Regulations, and Variances, 1100 Wilson Boulevard, Room 2350, Arlington, Virginia 22209-3939. Courier must sign in at the receptionist's desk on the 21st floor.

FOR FURTHER INFORMATION CONTACT: Roslyn B. Fontaine, Chief, Regulatory Development Division, Office of Standards, Regulations, and Variances, MSHA, at fontaine.roslyn@dol.gov (e-mail); 202-693-9440 (voice); or 202-693-9441 (facsimile).

SUPPLEMENTARY INFORMATION:

Availability of Information

View Public Comments: MSHA will post all comments on the Internet without change, including any personal information provided. Access comments electronically at http://www.msha.gov/REGS/Comments/2011-2255/POV.asp or at http://www.regulations.gov. Review comments in person at MSHA, Office of Standards, Regulations, and Variances, at the address in the ADDRESSES section above.

E-mail notification: To subscribe to receive e-mail notification when the Agency publishes rulemaking documents in the Federal Register, go to: http://www.msha.gov/subscriptions/subscribe.aspx.

Extension of Comment Period and Request for Comments

On February 2, 2011 (76 FR 5719), MSHA published a proposed rule on Pattern of Violations (POV). In response to requests from interested parties, MSHA is extending the comment period from April 4, 2011, to April 18, 2011. MSHA solicits comments from the mining community on all aspects of the proposed rule. The proposed rule is available on MSHA's Web site at http://www.msha.gov/REGS/FEDREG/PROPOSED/2011PROP/2011-2255.pdf.

Dated: March 30, 2011.
Joseph A. Main,
Assistant Secretary of Labor for Mine Safety and Health.

[FR Doc. 2011-7975 Filed 4-1-11; 8:45 am]

BILLING CODE 4510-43-P